DEPARTMENT OF HEALTH AND HUMAN SERVICES

Health Resources and Services Administration

Agency Information Collection Activities: Proposed Collection: Public Comment Request; Nurse Anesthetist Traineeship Program Specific Data Forms

AGENCY: Health Resources and Services Administration (HRSA), Department of Health and Human Services.

ACTION: Notice.

SUMMARY: In compliance with the requirement for opportunity for public comment on proposed data collection projects (Section 3506(c)(2)(A) of the Paperwork Reduction Act of 1995), HRSA announces plans to submit an Information Collection Request (ICR), described below, to the Office of Management and Budget (OMB). Prior to submitting the ICR to OMB, HRSA seeks comments from the public regarding the burden estimate, below, or any other aspect of the ICR.

DATES: Comments on this ICR must be received no later than January 3, 2017.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Nurse Anesthetist Traineeship (NAT) Program Specific Data Forms (Application).

OMB No. 0915-0374—Revision.

Abstract: HRSA provides advanced education nursing training grants to educational institutions to increase the numbers of Nurse Anesthetists through the NAT Program. The NAT Program is authorized by Section 811 of the Public Health Service (PHS) Act (42 U.S.C. 296j). The NAT Tables request information on program participants such as the number of enrollees, number of enrollees/trainees supported, number of graduates, number of graduates supported, projected data on the number of enrollees/trainees and graduates for the previous fiscal year, the types of programs the Nurse Anesthesia student trainees are enrolling into and/or from which enrollees/trainees are graduating, and the distribution of Nurse Anesthetists who practice in underserved, rural, or public health practice settings.

Need and Proposed Use of the Information: Funds appropriated for the NAT Program are distributed among eligible institutions based on a formula, as permitted by PHS Act section 806(e)(1). HRSA uses the data from the NAT Tables to determine the award amount, to ensure compliance with programmatic and grant requirements, and to provide information to the public and Congress.

HRSA is streamlining the data collection forms from three tables to two tables by making the following changes:

• Table 1—NAT: Enrollment, Traineeship Support, Graduates, Graduates Supported and Projected Data will no longer capture data by students in first 12 months of study and students beyond first 12 months of study the program. Data will continue to be captured by Master's and Doctoral students.

• Table 2A—NAT: Graduate Data—Rural, Underserved, or Public Health is now Table 2 due to the elimination of Table 2B. There are no other changes to this form.

• Table 2B—NAT: Graduates Supported by Traineeship Data—Rural, Underserved, or Public Health (7/01/15-6/30/16) will be discontinued as of 07/01/18.

Rationale: The NAT Program Specific Data Forms will be revised to streamline the process and capture only essential data for use in the formula calculation, ensure grantee compliance, and measure and evaluate the program.

Likely Respondents: Eligible applicants are education programs that provide registered nurses with full-time nurse anesthesia education and are accredited by the Council on Accreditation (COA) of Nurse Anesthesia Educational Programs. Such programs may include schools of nursing, nursing centers, academic health centers, state or local governments, and other public or private nonprofit entities authorized by the Secretary to confer degrees to registered nurses for full-time nurse anesthesia education. Faith-based and community-based organizations, Tribes, and tribal organizations may apply for these funds if otherwise eligible. In addition to the 50 states, only the District of Columbia, Guam, the Commonwealth of Puerto Rico, the Northern Mariana Islands, American Samoa, the U.S. Virgin Islands, the Federated States of Micronesia, the Republic of the Marshall Islands, and the Republic of Palau may apply.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Table 1—NAT: Enrollment, Traineeship Support, Graduate, Graduates Supported and Projected Data | 100 | 1 | 100 | 3.4 | 340
Table 2—NAT: Graduate Data—Rural, Underserved, or Public Health | 100 | 1 | 100 | 2.8 | 280
Total | *100 |  | 100 |  | 620
* The same respondents are completing Tables 1 and Table 2.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2016-26283 Filed 10-31-16; 8:45 am]

BILLING CODE 4165-15-P